DEPARTMENT OF LABOR

Employment and Training Administration

[TA-W-64,452]

Kensington Windows, Inc., a Subsidiary of Jancor Companies, Inc., Vandergrift, PA; Notice of Negative Determination Regarding Application for Reconsideration

By application dated February 27, 2009, the International Union of Electronic, Electrical, Salaried, Machine and Furniture Workers (IUE), Local 188643 requested administrative reconsideration of the Department's negative determination regarding eligibility for workers and former workers of Kensington Windows, Inc., a subsidiary of Jancor Companies, Inc., Vandergrift, Pennsylvania (subject firm) to apply for Trade Adjustment Assistance (TAA) and Alternative Trade Adjustment Assistance (ATAA). The Department's Notice of Affirmative Determination Regarding Application for Reconsideration was signed on March 12, 2009, and published in the Federal Register on March 23, 2009 (74 FR 12151).

The initial determination was based on the Department's findings that imports of vinyl replacement windows and doors did not contribute importantly to worker separations at the subject firm and that no shift of production to a foreign country occurred.

In the request for reconsideration, the petitioner alleges that the workers of the subject firm were negatively impacted by foreign imports and requested the Department of Labor conduct an in depth analysis of the customer surveys.

In order to apply for TAA based on increased imports, the subject worker group must meet the group eligibility requirements under Section 222(a) of the Trade Act of 1974, as amended. Under Section 222(a)(2)(A), the following criteria must be met:

A. A significant number or proportion of the workers in such workers' firm, or an appropriate subdivision of the firm, have become totally or partially separated, or are threatened to become totally or partially separated; and

B. The sales or production, or both, of such firm or subdivision have decreased absolutely; and

C. Increased imports of articles like or directly competitive with articles produced by such firm or subdivision have contributed importantly to such workers' separation or threat of separation and to the decline in sales or production of such firm or subdivision.

During the reconsideration investigation, the Department conducted a more detailed survey of additional customers regarding their purchases of vinyl replacement windows and doors (including like or directly competitive articles) during 2006, 2007, January through November 2007 and January through November 2008. Based on the information provided by the major declining customers, the Department determined that none of the customers imported vinyl replacement windows and doors while decreasing their purchases from the subject firm during the relevant period.

Based on the information above, the Department determines that the group eligibility requirements under Section 222(a) of the Trade Act of 1974, as amended, were not met.

In order for the Department to issue a certification of eligibility to apply for ATAA, the subject worker group must be certified eligible to apply for TAA. Since the subject workers are denied eligibility to apply for TAA, the workers cannot be certified eligible for ATAA.

Conclusion

After reconsideration, I affirm the original notice of negative determination of eligibility to apply for worker adjustment assistance for workers and former workers of Kensington Windows, Inc., a subsidiary of Jancor Companies, Inc., Vandergrift, Pennsylvania.

Signed at Washington, DC, this 3rd day of April 2009.
Elliott S. Kushner,
Certifying Officer, Division of Trade Adjustment Assistance.

[FR Doc. E9-8412 Filed 4-13-09; 8:45 am]

BILLING CODE 4510-FN-P